DEPARTMENT OF HEALTH AND HUMAN SERVICES

Centers for Disease Control and Prevention

Notice of Award of a Sole Source Cooperative Agreement To Fund Guinea Agence Nationale de Sécurité Sanitaire (ANSS), Kementerian Kesehatan RI, Pakistan National Institute of Health, and Tanzania Ministry of Health (MoH)

AGENCY: Centers for Disease Control and Prevention (CDC), Department of Health and Human Services (HHS).

ACTION: Notice.

SUMMARY: The Centers for Disease Control and Prevention (CDC), located within the Department of Health and Human Services (HHS), announces four separate awards to fund Agence Nationale de Sécurité Sanitaire, Kementerian Kesehatan RI, Pakistan National Institute of Health, and Tanzania Ministry of Health. For Guinea Agence Nationale de Sécurité Sanitaire, the award is for approximately $2,000,000, with an expected total funding of approximately $10,000,000. For Kementerian Kesehatan RI, the award is for approximately $1,500,000, with an expected total funding of approximately $7,500,000. For Pakistan National Institute of Health, the award is for approximately $700,000, with an expected total funding of approximately $3,500,000. For Tanzania Ministry of Health, the award is for approximately $2,000,000, with an expected total funding of approximately $10,000,000. The total 5-year period amount for the four recipients is $31,000,000. The awards will protect Americans and people worldwide from public health threats by building capacity within their respective countries to strengthen public health preparedness; early pathogen detection to mitigate the impact of global disease outbreaks and public health; and bolstering rapid response to global health emergencies.

DATES: The period for these awards will be September 30, 2025 through September 29, 2030.

FOR FURTHER INFORMATION CONTACT: Broderick Yoerg, Division of Global Health Protection, Global Health Center, Centers for Disease Control and Prevention, 1600 Clifton Rd, Atlanta, GA 30329, Telephone: (404) 234-0666, Email: DGHPNOFOs@cdc.gov.

SUPPLEMENTARY INFORMATION: The sole source award will provide support around disease surveillance and outbreak response, including establishing routine surveillance and developing information technology tools and systems. Broad areas of support include, but are not limited to: emergency management, ensuring countries have the knowledge and resources they need, including emergency operations centers that can mount a fast, coordinated response when outbreaks happen; safe laboratory systems and diagnostics, building the capacity to identify disease threats close to the source and inform decision-making; and developing the workforce, training frontline responders, laboratorians, disease detectives, emergency managers, and other health professionals who are responsible for taking the lead when crisis strikes.

These are the only entities that can carry out this work as they are in a unique position to conduct this work as host government ministries of health. They have the authority to support health service delivery through capacity building and oversee the national coordination of surveillance, preparedness, prevention, and response activities to all forms of health threats and public health emergencies.

Summary of the Award

Recipient: Guinea Agence Nationale de Sécurité Santiare, Ministry of Health Indonesia, Pakistan National Institute of Health, and Ministry of Health Tanzania.

Purpose of the Award: The purpose of these awards is to support disease surveillance and outbreak response, emergency management, safe laboratory systems and diagnostics and developing the public health workforce in Guinea, Indonesia, Pakistan, and Tanzania.

Amount of Award: For Guinea Agence Nationale de Securite Santiare, the award is for approximately $2,000,000 in Federal Fiscal Year (FFY) 2025, with an expected total funding of approximately $10,000,000 for the, 5-year period of performance, subject to availability of funds. For Kementerian Kesehatan RI, the award is for approximately $1,500,000 in Federal Fiscal Year (FFY) 2025, with an expected total funding of approximately $7,500,000 for the 5-year period of performance, subject to availability of funds. For Pakistan National Institute of Health, the award is for approximately $700,000 in Federal Fiscal Year (FFY) 2025, with an expected total funding of approximately $3,500,000 for the 5-year period of performance, subject to availability of funds. For Ministry of Health Tanzania, the award is for approximately $2,000,000 in Federal Fiscal Year (FFY) 2025, with an expected total funding of approximately $10,000,000 for the 5-year period of performance, subject to availability of funds.

Authority: This program is authorized under Section 307 of the Public Health Service Act [42 U.S.C. 242l] and Section 301(a) [42 U.S.C. 241(a)] of the Public Health Service Act.

Period of Performance: September 30, 2025 through September 29, 2030.

Dated: December 17, 2024.
Terrance Perry,
Acting Director, Office of Grants Services, Centers for Disease Control and Prevention.

[FR Doc. 2024-31198 Filed 12-27-24; 8:45 am]

BILLING CODE 4163-18-P